DEPARTMENT OF JUSTICE

Antitrust Division

Notice Pursuant to the National Cooperative Research and Production Act of 1993—DVD Copy Control Association

Notice is hereby given that, on March 29, 2005, pursuant to section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Advanced Driver Information Technology Corporation, Aichi-ken, Japan; Condor CD S.L., Calatayud, Spain; Coretek Limited, Hong Kong, Hong Kong-China; D-Link Systems, Inc., Fountain Valley, CA; Dyntec Disc Production Co., Ltd., Nakhon Pathom, Thailand; Hing Lung Technology (HK) Company Limited, Hong Kong, Hong Kong-China; Hitachi High Technologies Corporation, Tokyo, Japan; Honest Technology Co., Ltd., Daejeon, Republic of Korea; Kiss Technology A/S, Horsholm, Denmark; L&M Optical Disc West, LLC, Valencia, CA; Laser Disc Argentina S.A., Buenos Aires, Argentina; OptiDisk Corporation, Anaheim, CA; Princeton Technology Corp., Taipei, Taiwan; Seripress SAS, Bulgneville, France; Shin Heung Precision Co., Ltd., Kyunggi-Do, Republic of Korea; Ultra Source Technology Corp., Hong Kong, Hong Kong-China; Video Without Boundaries, Inc., Fort Lauderdale, FL; and World Electronic (Shenzhen) Co., Ltd., Guangdong, People's Republic of China have been added as parties to this venture.

Also, Accesstek, Inc., Hsin-Chu, Taiwan; Digipak Optical Disc, SA, Beriain, Spain; Enlight Corporation, Taoyuan, Taiwan; Flextronics International Denmark A/S, Pandrup, Denmark; Jiangsu Syber Electronic Co., Ltd., Jiangsu, People's Republic of China; and Shinwa Industries (China), Ltd., Xiamen, People's Republic of China have withdrawn as parties to this venture. Also, Malata Seeing & Hearing Equipment Co., Ltd. has changed its name to Nanjing Wanlida Seeing & Hearing Equipment Co., Ltd., Xiamen, People's Republic of China.

No other changes have been made in either the membership or planned activity of the group research project. Membership in this group research project remains open, and DVD CCA intends to file additional written notification disclosing all changes in membership.

On April 11, 2001, DVD CCA filed its original notification pursuant to section 6(b) of the Act. The Department of Justice published a notice in the Federal Register pursuant to section 6(b) of the Act on August 3, 2001 (66 FR 40727).

The last notification was filed with the Department on December 29, 2004. A notice was published in the Federal Register pursuant to section 6(b) of the Act on February 2, 2005 (70 FR 5483).

Dorothy B. Fountain,
Deputy Director of Operations, Antitrust Division.

[FR Doc. 05-8255 Filed 4-25-05; 8:45 am]

BILLING CODE 4410-11-M